FEDERAL ELECTION COMMISSION

Sunshine Act Meeting

FEDERAL REGISTER CITATION OF PREVIOUS ANNOUNCEMENT: 86 FR 47498.

PREVIOUSLY ANNOUNCED TIME AND DATE OF THE MEETING: Tuesday, August 31, 2021 at 10:00 a.m. and its continuation at the conclusion of the open meeting on September 2, 2021.

CHANGES IN THE MEETING: This meeting will also discuss:

Matters relating to internal personnel decisions, or internal rules and practices.

Matters which involve the consideration of a proceeding of a formal nature by the Commission against a specific person or the formal censure of any person.

Information of which disclosure would constitute an unwarranted invasion of privacy.

Information the premature disclosure of which would be likely to have a considerable adverse effect on the implementation of a proposed Commission action.

* * * * *

CONTACT PERSON FOR MORE INFORMATION: Judith Ingram, Press Officer, Telephone: (202) 694-1220.

Vicktoria J. Allen,
Acting Deputy Secretary of the Commission.

[FR Doc. 2021-19025 Filed 8-30-21; 4:15 pm]

BILLING CODE 6715-01-P